DEPARTMENT OF HEALTH AND HUMAN SERVICES

Substance Abuse and Mental Health Services Administration

Replacement of SAMHSA Appeals Policy With an Applicant Inquiry Process.

AGENCY: Substance Abuse and Mental Health Services Administration, HHS.

ACTION: Replacement of SAMHSA Appeals Policy with an Applicant Inquiry Process.

SUMMARY: The SAMHSA Appeals System Policy was published in the Federal Register on June 23, 1993. Essentially, that policy provided a two-level appeals process for unsuccessful grant/cooperative agreement applicants to bring to the attention of the Agency a possible error in the grant review process.

The purpose of this notification is to inform potential applicants that effective immediately, SAMHSA is replacing the appeals process as set forth in the June 23, 1993 Federal Register with an inquiry policy for grant or cooperative agreement applications. This notice clarifies the previous policy and provides for technical changes as to the process and to whom inquiries, referred to in the previous policy as “appeals,” are to be addressed as a result of the reorganization of the agency.

Discussion

SAMHSA is committed to the maintenance of a high quality review system that promotes fairness to applicants. Toward that end, SAMHSA believes applicants should be provided an opportunity to express concerns regarding the review of their applications. Under this policy, applicants will continue to be allowed to submit a written inquiry regarding possible errors in the review process. Inquiries will be taken seriously and SAMHSA will seek to provide a fair review of the inquiry.

The inquiry process allows applicants to communicate and discuss issues which arise from perceived shortcomings or errors in the substance or procedures of peer review. In general, inquiries under this policy may address such issues as the following: perceived factual errors, oversights, or bias in the peer review; or perceived conflict of interest on the part of one or more review members. The applicant should provide specific documentation to support the issues under inquiry.

Please note that applicants are expected to provide complete and clear applications and, accordingly, this inquiry process is not intended to permit applicants to supplement their applications, nor is it meant to be used to contest the judgment of the peer reviewers. Specifically, applicants should note that the written inquiry process under this policy is NOT intended to:

• Address differences of opinion between peer reviewers and the applicant;

• Provide a mechanism for allowing applicants to submit information that was not presented in the application;

• Provide a forum for pointing out information, requested in a particular section and deemed as missing by reviewers, that was included in the wrong section or in the Appendices of the application;

• Provide a forum for review of allegations that the documentation requested of applicants could be surmised from various pieces of information provided throughout the application; nor

• Provide a forum for disputing priority score determinations in the absence of specific and substantive evidence pointing to a flawed review.

Prior to the submission of a written inquiry, applicants are strongly urged to discuss via telephone the issues regarding their peer review results with designated staff in the review office and in the Center for Mental Health Services, Center for Substance Abuse Prevention, or Center for Substance Abuse Treatment, as appropriate. SAMHSA believes that most issues will be clarified best via a verbal discussion, during which both the applicant and SAMHSA staff may ask questions and further explain the comments provided by peer review. Nevertheless, if applicants still have concerns, a written inquiry may be sent to the Director of Grant Review, Office of Program Services, SAMHSA, Room 17-89, 5600 Fishers Lane, Rockville, Maryland 20857.

Any questions regarding the new inquiry policy may be directed to Ms. Sandra Stephens, Extramural Policy Team Leader, Office of Policy, Planning, and Budget, SAMHSA, Room 12-05, 5600 Fishers Lane, Rockville, Maryland 20857.

Dated: May 27, 2003.
Charles G. Curie,
Administrator, Substance Abuse and Mental Health Services Administration.

[FR Doc. 03-13832 Filed 6-2-03; 8:45 am]

BILLING CODE 4162-20-P